DEPARTMENT OF LABOR

Employment and Training Administration

[TA-W-65,845]

Broyhill Furniture, Inc., Broyhill Rutherford Distribution Center, Rutherfordton, NC; Notice of Termination of Investigation

In accordance with Section 221 of the Trade Act of 1974, as amended, an investigation was initiated on April 24, 2009 in response to a petition filed on behalf of workers of Broyhill Furniture, Inc., Broyhill Rutherfordton Distribution Center, Rutherfordton, North Carolina.

The petitioners have requested that the petition be withdrawn. Consequently, the investigation has been terminated.

Signed in Washington, DC, this 20th day of May 2009.
Richard Church,
Certifying Officer, Division of Trade Adjustment Assistance.

[FR Doc. E9-15298 Filed 6-26-09; 8:45 am]

BILLING CODE 4510-FN-P